INTERNATIONAL TRADE COMMISSION

Certain Welded Large Diameter Line Pipe From Japan; Investigation No. 731-TA-919 (Second Review); Notice of Commission Determination To Conduct a Portion of the Hearing In Camera

AGENCY: U.S. International Trade Commission.

ACTION: Closure of a portion of a Commission hearing.

SUMMARY: Upon the timely request of respondents, the Commission has determined to conduct a portion of its hearing in the above-captioned investigation scheduled for August 1, 2013, in camera. See Commission rules 207.24(d), 201.13(m) and 201.36(b)(4) (19 CFR 207.24(d), 201.13(m) and 201.36(b)(4)). The remainder of the hearing will be open to the public.

FOR FURTHER INFORMATION CONTACT: Michael K. Haldenstein, Office of the General Counsel, U.S. International Trade Commission, telephone 202-205-3041. Hearing-impaired individuals are advised that information on this matter may be obtained by contacting the Commission's TDD terminal on 202-205-3105.

SUPPLEMENTARY INFORMATION: The Commission believes that respondents JFE Steel Corporation and Nippon Steel & Sumitomo Metal Corporation have justified the need for a closed session. In making this decision, the Commission nevertheless reaffirms its belief that whenever possible its business should be conducted in public.

The hearing will include the usual public presentations by domestic producers and by respondents, with questions from the Commission. In addition, the hearing will include a 10-minute in camera session for a confidential presentation by respondents. Each session will be followed by an in camera rebuttal presentation by domestic producers and questions from the Commission relating to the BPI. During the in camera session the room will be cleared of all persons except those who have been granted access to BPI under a Commission administrative protective order (APO) and are included on the Commission's APO service list in this investigation and the respondent witnesses (Atsuhito Takeuchi from JFE Steel Corporation and Kenji Nakayama from Nippon Steel & Sumitomo Metal Corporation) who will be testifying at the in camera session. See 19 CFR 201.35(b). The time for the parties' presentations and rebuttals in the in camera session will be taken from their respective overall allotments for the hearing. All persons planning to attend the in camera portions of the hearing should be prepared to present proper identification.

Authority: The Acting General Counsel has certified, pursuant to Commission Rule 201.39 (19 CFR 201.39) that, in his opinion, a portion of the Commission's hearing in Certain Welded Large Diameter Line Pipe from Japan, Inv. No. 731-TA-919 (Second Review), may be closed to the public to prevent the disclosure of BPI. Notwithstanding Commission Rule 201.35(a) (19 CFR 201.35(a)), seven-day advance notice of the determination to conduct a portion of the hearing in camera is not possible. Public notice is consequently being issued at the earliest practicable time pursuant to Commission Rule 201.35(c)(2) (19 CFR 201.35(c)(2)).

Issued: July 30, 2013.
By order of the Commission.
Lisa R. Barton,
Acting Secretary to the Commission.

[FR Doc. 2013-18646 Filed 8-1-13; 8:45 am]

BILLING CODE 7020-02-P